FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 012181-001.

Title: HLAG/HSDG Latin America Slot Exchange Agreement.

Parties: Hapag-Lloyd AG and Hamburg Sud.

Filing Party: Wayne R. Rohde, Esquire; Cozen O'Connor; 1200 19th Street NW., Washington, DC 20036.

Synopsis: The amendment increases the amount of space to be exchanged, provides for limited, defined flexibility in the amount of space to be exchanged going forward, and eliminates restrictions on the movement of cargo to/from certain locations.

Agreement No.: 012454.

Title: MOL/NMCC/WLS/SCC Space Charter Agreement.

Parties: Mitsui O.S.K. Lines, Ltd., Nissan Motor Car Carrier Co., Ltd., and World Logistics Service (U.S.A.), Inc. (collectively “MOL”); and Siem Car Carriers A/S.

Filing Party: Eric C. Jeffrey, Esq.; Nixon Peabody; 799 9th Street NW., Suite 500, Washington, DC 20001.

Synopsis: The agreement authorizes the parties to charter space to one another on an as needed, as available, basis for the carriage of vehicles and other Ro-Ro cargo in the trades between the United States and all foreign countries.

By Order of the Federal Maritime Commission.
Dated: January 13, 2017.
Rachel E. Dickon,
Assistant Secretary.

[FR Doc. 2017-01242 Filed 1-18-17; 8:45 am]

BILLING CODE P